DEPARTMENT OF COMMERCE

United States Patent and Trademark Office

RIN 0651-AB29

Extension of Comment Period: Standard for Declaring a Patent Interference

AGENCY: United States Patent and Trademark Office, Commerce.

ACTION: Notice, extension of comment period.

SUMMARY: The period for commenting on the Federal Register notice dated December 20, 2000 (65 FR 79809) regarding the standard for declaring a patent interference is extended.

DATES: Submit comments on or before February 28, 2001.

ADDRESSES: Send all comments:

1. Electronically to “Interference.Rules@uspto.gov”, Subject: “Interference-in-fact”;

2. By mail to Director of the United States Patent and Trademark Office, BOX INTERFERENCE, Washington, D.C. 20231, ATTN: “Interference-in-Fact”; or

3. By facsimile to 703-305-0942, ATTN: “Interference-in-fact”.

FOR FURTHER INFORMATION CONTACT: Fred E. McKelvey or Richard Torczon at 703-308-9797.

SUPPLEMENTARY INFORMATION: In a Federal Register notice published December 20, 2000, the public was invited to comment on the standard used to declare patent interferences. In response to requests from the public to extend the period for public comment, the comment period is extended one month to ensure ample opportunity for public comment.

Comment Format

Comments should be submitted in electronic form if possible, either via the Internet or on a 3¼-inch diskette. Comments submitted in electronic form should be submitted as ASCII text. Special characters, proprietary formats, and encryption should not be used.

Authority: 35 U.S.C. 2(b)(2)(A), 3(a)(2), 135(a).

Dated: January 26, 2001.
Nicholas P. Godici,
Acting Under Secretary of Commerce for Intellectual Property and Acting Director of the United States Patent and Trademark Office.

[FR Doc. 01-2820 Filed 1-31-01; 8:45 am]

BILLING CODE 3510-16-P